INTERNATIONAL TRADE COMMISSION

[USITC SE-02-038]

Sunshine Act; Meeting

Agency Holding the Meeting: United States International Trade Commission.

Time and Date: January 6, 2003 at 11 a.m.

Place: Room 101, 500 E Street SW., Washington, DC 20436, Telephone: (202) 205-2000.

Status: Open to the public.

Matters to Be Considered: 1. Agenda for future meetings: none.

2. Minutes.

3. Ratification List.

4. Inv. No. 731-TA-1022 (Preliminary)(Refined Brown Aluminum Oxide from China)—briefing and vote. (The Commission is currently scheduled to transmit its determination to the Secretary of Commerce on January 6, 2003; Commissioners' opinions are currently scheduled to be transmitted to the Secretary of Commerce on or before January 13, 2003).

5. Outstanding action jackets: none.

In accordance with Commission policy, subject matter listed above, not disposed of at the scheduled meeting, may be carried over to the agenda of the following meeting.

Issued: December 17, 2002.
By order of the Commission:
Marilyn R. Abbott,
Secretary to the Commission.

[FR Doc. 02-32215 Filed 12-18-02; 10:39 am]

BILLING CODE 7020-02-P